DEPARTMENT OF COMMERCE

National Oceanic and Atmospheric Administration

RIN 0648-XD02

Endangered and Threatened Species; Recovery Plans

AGENCY: National Marine Fisheries Service (NMFS), National Oceanic and Atmospheric Administration, Commerce.

ACTION: Notice of Availability.

SUMMARY: The National Marine Fisheries Service (NMFS) announces the adoption of an Endangered Species Act (ESA) recovery plan for the Upper Columbia River Spring-Run Chinook Salmon (Oncorhynchus tshawytscha) evolutionarily significant unit (ESU) and the Upper Columbia River steelhead (Oncorhynchus mykiss) distinct population segment (DPS). The Upper Columbia Spring Chinook Salmon and Steelhead Recovery Plan (the Plan) contains 27 appendices.

ADDRESSES: Additional information about the Plan may be obtained by writing to Lynn Hatcher, National Marine Fisheries Service, 304 S. Water Street, Suite #201, Ellensburg, WA 98926, or by calling (509) 962-8911.

Electronic copies of the Plan and the summary of and response to public comments on the Proposed (Draft) Recovery Plan are available online at www.nwr.noaa.gov/Salmon-Recovery-Planning/Recovery-Domains/Interior-Columbia/Upper-Columbia/Index.cfm, or the Upper Columbia Salmon Recovery Board website, www.ucsrb.com/. A CD-ROM of these documents can be obtained by calling Sharon Houghton at (503) 230-5418 or by e-mailing a request to sharon.houghton@noaa.gov, with the subject line “CD-ROM Request for Final ESA Recovery Plan for Upper Columbia Salmon and Steelhead.”

FOR FURTHER INFORMATION CONTACT: Lynn Hatcher, NMFS Upper Columbia Salmon Recovery Coordinator at (509) 962-8911, or Elizabeth Gaar, NMFS Salmon Recovery Division, at (503) 230-5434.

SUPPLEMENTARY INFORMATION:

Background

Recovery plans describe actions beneficial to the conservation and recovery of species listed under the Endangered Species Act of 1973 (ESA), as amended (16 U.S.C. 1531 et seq.). The ESA requires that recovery plans, to the extent practicable, incorporate: (1) objective, measurable criteria which, when met, would result in a determination that the species is no longer threatened or endangered; (2) site-specific management actions that may be necessary to achieve the plan's goals; and (3) estimates of the time required and costs to implement recovery actions. The ESA requires the development of recovery plans for listed species unless such a plan would not promote the recovery of a particular species.

NMFS' goal is to restore endangered and threatened Pacific salmon and steelhead to the point that they are again self-sustaining members of their ecosystems and no longer need the protections of the ESA. NMFS believes it is critically important to base its recovery plans on the many state, regional, tribal, local, and private conservation efforts already underway throughout the region. Therefore, the agency supports and participates in locally led collaborative efforts to develop recovery plans, involving local communities, state, tribal, and Federal entities, and other stakeholders. As the lead ESA agency for listed salmon, NMFS is responsible for reviewing these locally produced recovery plans and deciding whether they meet ESA statutory requirements and merit adoption as ESA recovery plans.

The Upper Columbia River Spring-Run Chinook Salmon (O. tshawytscha) ESU was listed as endangered under the ESA on March 24, 1999 (64 FR 14307). The Upper Columbia River Steelhead (O. mykiss) DPS was listed as endangered on August 18, 1997 (62 FR 43937), and reclassified as threatened on January 5, 2006 (71 FR 834). The 2006 reclassification of the steelhead DPS was invalidated as the result of a decision in U.S. District Court on June 13, 2007 (Trout Unlimited, et al. v. Lohn, No. CV-06-1493-ST). Thus, the present status of the Upper Columbia River Steelhead DPS is endangered.

On December 30, 2005, the Upper Columbia Salmon Recovery Board (UCSRB) presented its locally developed Draft Recovery Plan to NMFS. The UCSRB includes representatives from Chelan County, Douglas County, Okanogan County, Yakama Nation, and the Confederated Tribes of the Colville Reservation. A variety of additional partners, representing Federal agencies, Washington State agencies, regional organizations, special purpose districts, and members of the public, also participated in the planning process.

After NMFS reviewed the Draft Recovery Plan, NMFS and the UCSRB revised it to clarify how it satisfies ESA recovery plan requirements and to address additional elements as needed. The jointly revised Draft Recovery Plan was made available for public review as a Proposed Recovery Plan, and a notice of availability soliciting public comments on the Proposed Recovery Plan was published in the Federal Register on September 29, 2006 (71 FR 57472). NMFS received 73 comment letters on the Proposed Recovery Plan. An itemized record of all comments is included in the final Plan as Appendix O.4. NMFS summarized the public comments and prepared responses, now available on the NMFS website at www.nwr.noaa.gov/Salmon-Recovery-Planning/Recovery-Domains/Interior-Columbia/Upper-Columbia/Index.cfm. Public hearings were conducted on November 8, 2006, in Okanogan, Washington, and on November 9, 2006, in Wenatchee, Washington. Complete copies of the Proposed Recovery Plan were placed in the Twisp, Entiat, Okanogan, and Wenatchee, Washington, public libraries. NMFS and the UCSRB again revised the plan based on the comments received, and this final version now constitutes the ESA Recovery Plan for Upper Columbia Spring Chinook Salmon and Upper Columbia Steelhead.

By endorsing this locally developed recovery plan, NMFS is making a commitment to implement the actions in the plan for which it has authority, to work cooperatively on implementation of other actions, and to encourage other Federal agencies to implement recovery plan actions for which they have responsibility and authority. NMFS will also encourage the State of Washington to seek similar implementation commitments from state agencies and local governments. NMFS expects the Plan to help NMFS and other Federal agencies take a more consistent approach to future ESA section 7 consultations and other ESA decisions. For example, the Plan will provide greater biological context for the effects that a proposed action may have on the listed ESU and DPS. Science described in the Plan will become a component of the ''best available information'' reviewed for ESA section 7 consultations, section 10 permits and habitat conservation plans (HCPs), and other ESA decisions. Such information includes viability criteria for the ESU, DPS, and their independent populations; better understanding of and information on limiting factors and threats facing the ESU and DPS; better information on priority areas for addressing specific limiting factors; and better geographic context for assessing risk to the ESU and DPS.

The Recovery Plan

The Plan is one of many ongoing salmon recovery planning efforts funded under the Washington State Strategy for Salmon Recovery. The State of Washington designated the UCSRB as the Lead Entity for salmon recovery planning for the Upper Columbia. The UCSRB has consistently involved the public in its recovery planning process, making changes based on extensive comments received during public comment periods for the Draft Recovery Plan in January, April, and June of 2005, and during the public comment period for the Proposed Recovery Plan from September 2006 to February 2007.

The Plan is an outgrowth and culmination of several conservation efforts in the Upper Columbia Basin, including current efforts related to the ESA, state- and tribally sponsored recovery efforts, subbasin planning, and watershed planning.

The Upper Columbia planning effort was supported by a NMFS-appointed science panel, the Interior Columbia Technical Recovery Team (ICTRT). This panel of 11 scientific experts from Federal, state, local, and private organizations identified historical populations and recommended ESU viability criteria (ICTRT 2005 and 2007). The ICTRT reviewed early drafts of the plan and provided scientific peer review of the Proposed Recovery Plan. In addition, staff biologists of the Washington Department of Fish and Wildlife, U.S. Fish and Wildlife Service, U.S. Forest Service, Yakama Nation, Confederated Tribes of the Colville Reservation, Okanogan County, Douglas County, and Chelan County reviewed the UCSRB Plan at each stage. NMFS Northwest Region staff biologists also reviewed draft versions of the Plan and provided substantial guidance for revisions.

The Plan incorporates the NMFS viable salmonid population (VSP) framework (McElhany et al., 2000) as a basis for biological status assessments and recovery goals for Upper Columbia River spring Chinook salmon and Upper Columbia River steelhead.

ESU Addressed and Planning Area

The Plan will be implemented within the range of the Upper Columbia River Spring-Run Chinook Salmon ESU and the Upper Columbia River Steelhead DPS. The planning area includes parts of Okanogan, Douglas, Chelan, and Grant counties.

The ICTRT identified three independent populations in the spring Chinook salmon ESU (Wenatchee, Entiat, and Methow), and five independent populations in the steelhead DPS (Wenatchee, Entiat, Methow, Okanogan, and Crab Creek). These independent populations were identified based on the genetic, geographic, and habitat characteristics they share within the ESU or the DPS. Each population's size category (very large, large, medium, or basic) was based on its historical population size. The Upper Columbia tributaries were further divided into Major Spawning Areas and Minor Spawning Areas based on the within-population complexity of tributary spawning habitats.

The Plan's Recovery Goals, Objectives and Criteria

The Plan's goal is to achieve recovery and delisting of spring Chinook salmon and steelhead by ensuring the long-term persistence of viable populations of naturally produced fish distributed across their native range. The Plan bases biological status assessments and recovery goals on the four VSP parameters: abundance, productivity, spatial structure, and diversity (McElhany et al. 2000).

Evaluating a species for potential delisting requires an explicit analysis of population or demographic parameters (biological recovery criteria) and also of threats under the five ESA listing factors in ESA section 4(a)(1) (threats criteria). Together these make up the “objective, measurable criteria” required under section 4(f)(1)(B). While the ESU or DPS is the listed entity under the ESA, the viability criteria are based on the collective viability, characteristics, and distribution of the individual populations that make up the ESU or DPS.

The Plan identifies two levels of recovery objectives. The first level relates to reclassifying the endangered species as threatened and the second relates to recovery (delisting). The reclassification objectives include increasing the abundance, productivity, and distribution of naturally produced steelhead and spring Chinook salmon sufficient to lead to reclassification as threatened, and conserving their genetic and phenotypic diversity.

The Plan's recovery (delisting) objectives include increasing the abundance of naturally produced spring Chinook salmon and steelhead spawners within each population in the Upper Columbia River ESU/DPS to levels considered viable; increasing the productivity (spawner:spawner ratios and smolts/ redds) of naturally produced spring Chinook salmon and steelhead within each population to levels that result in low risk of extinction; restoring the distribution of naturally produced spring Chinook salmon and steelhead to previously occupied areas where practical; and conserving their genetic and phenotypic diversity.

The Plan sets forth specific criteria to meet the recovery objectives, based on the ICTRT's recommended criteria, which, if met, would indicate a high probability of persistence into the future for Upper Columbia River spring Chinook salmon and steelhead. The Plan establishes criteria for 95 percent probability of persistence (5 percent extinction risk) for all Upper Columbia River spring Chinook salmon populations, and all but one population of the steelhead DPS. The Plan concludes that the Upper Columbia River steelhead DPS may be recovered without attaining the 95 percent probability of persistence for the Crab Creek population, based on the possibility that this population was not viable historically because of environmental conditions (e.g., intermittent stream flows and high water temperatures).

The ICTRT recently recommended that, in an ESU/DPS containing only one major population group (MPG), as is the case for both Upper Columbia River spring-run Chinook salmon and Upper Columbia River steelhead, at least two populations should meet abundance/productivity criteria representing a 1-percent extinction risk (99-percent probability of persistence) over a 100-year period (ICTRT 2005b, p. 46). The ICTRT considers the 5 percent risk level ''viable'' and the 1 percent risk level ''highly viable.'' The Plan does not adopt this more recent recommendation, but instead adopts the 5 percent extinction risk for abundance/productivity for all populations in the Chinook salmon ESU and all but one in the steelhead DPS, as stated above.

NMFS accepts the UCSRB's recommended recovery (delisting) criteria because they call for all known extant populations within the Chinook ESU and steelhead DPS to be viable. Furthermore, NMFS believes that it is not possible at this time to distinguish between the levels of effort needed to attain 95 vs. 99 percent probability of persistence; therefore, the Plan's actions would not change at this time in response to the ICTRT's more recently recommended criterion. Finally, NMFS will re-evaluate ESU and DPS status and the appropriateness of the recovery criteria in 5 years or less based on additional data from monitoring and research on critical uncertainties, and could modify the recovery plan accordingly.

Causes for Decline and Current Threats

The ESA includes five factors, in section 4(a)(1), to be evaluated when the initial determination to list a species for protection is made. These factors are: (a) the present or threatened destruction, modification, or curtailment of a species' habitat or range; (b) overutilization for commercial, recreational, or educational purposes; (c) disease or predation; (d) the inadequacy of existing regulatory mechanisms; and (e) other natural or manmade factors affecting the species' continued existence (16 U.S.C. 1533[a][1]). These five factors may or may not still be limiting recovery when, in the future, NMFS reevaluates the status of the species to determine whether the protections of the ESA are sill warranted, and whether the species can be delisted. In the Plan, NMFS provides criteria for each of the relevant listing/delisting factors to help ensure that underlying causes of decline have been addressed and mitigated before considering the species for delisting.

The Plan identifies the main causes for the decline of the Upper Columbia River steelhead and spring Chinook salmon as: (1) human adaptation and destruction of habitat; (2) the effects of hydroelectric operations; (3) the effects of commercial, sport, and tribal fisheries; and (4) the impacts of hatchery programs and practices.

Habitat: Human activities have altered and/or curtailed habitat-forming processes and limited the habitat suitable for spring Chinook salmon and steelhead in the Upper Columbia River tributaries. Although recent land and water management practices have improved, some storage dams, diversions, roads and railways, agriculture, residential development, and forest management continue to cause changes in water flow, water temperature, sedimentation, floodplain dynamics, riparian function, and other aspects of the ecosystem, that are deleterious to spring Chinook salmon and steelhead and their habitat.

Hydroelectric Operations: Conditions for Upper Columbia River spring Chinook salmon and steelhead have been fundamentally altered throughout the Columbia River basin by the construction and operation of mainstem dams and reservoirs for power generation, navigation, and flood control. Upper Columbia River salmon and steelhead are adversely affected by hydrosystem-related flow and water quality effects, obstructed and/or delayed passage, and ecological changes in impoundments.

Harvest: Harvest of Upper Columbia River spring Chinook salmon and steelhead occurs in commercial, recreational, and tribal fisheries in the mainstem Columbia and in some tributaries. Upper Columbia River spring Chinook salmon and steelhead are rarely taken in ocean fisheries; most harvest of these listed species occurs in the Columbia mainstem and some tributaries. Aggregate harvest rates (from fishing in all areas) have generally been reduced from their peak periods as a result of international treaties, fisheries conservation acts, the advent of weak-stock management in the 1970s and 1980s, regional conservation goals, and the listing of many salmon ESUs and steelhead DPSs under the ESA. While fisheries do not target weak stocks of listed salmon or steelhead, listed fish are incidentally caught in fisheries directed at hatchery and unlisted wild stocks.

Hatcheries: In the Upper Columbia region, the 12 hatcheries currently producing spring Chinook salmon and steelhead are operated to mitigate for loss of habitat and for passage mortalities resulting from the Columbia River hydrosystem. These hatcheries provide valuable mitigation and/or conservation benefits but can cause substantial adverse impacts if not properly managed. The Plan describes the risks to listed fish from these hatcheries, including genetic effects that reduce fitness and survival, ecological effects such as competition and predation, facility effects on passage and water quality, mixed stock fishery effects, and masking of the true status of wild populations.

Additional Factors: The Plan considers that there could be additional factors that affect Upper Columbia River spring Chinook salmon and steelhead, including changes in estuarine habitat, global climate change, inadequacy of existing regulatory mechanisms, fluctuating ocean cycles, and predation.

Recovery Strategies and Actions

The Plan's initial approach is to target reductions in all manageable threats and limiting factors and to improve the status of all extant Upper Columbia River spring Chinook salmon and steelhead populations. As monitoring and evaluation programs improve understanding of the effectiveness of various actions and their benefits throughout the life cycle of salmon and steelhead, adjustments may be made through the adaptive management framework described in the Plan.

The Plan describes objectives and strategies and recommends specific actions for Upper Columbia River spring Chinook salmon and steelhead recovery. Among the most significant recommendations are the following:

Habitat: The Plan includes habitat protection and restoration actions in all streams that currently support or may support (in a restored condition) listed spring Chinook salmon and steelhead in the Upper Columbia Basin. The objectives and recommended actions are derived from subbasin plans, watershed plans, the Upper Columbia Biological Strategy, the Douglas County public utility district (PUD) and Chelan County PUD Anadromous Fish Agreement and Habitat Conservation Plans (AFAHCPs), and other relicensing agreements. The Plan emphasizes actions that (1) protect existing areas where high ecological integrity and natural ecosystem processes persist; (2) restore connectivity (access) throughout the historical range, where feasible and practical; (3) protect and restore riparian habitat along spawning and rearing streams and identify long-term opportunities for riparian habitat enhancement; (4) protect and restore floodplain function and reconnection, off-channel habitat, and channel migration processes where appropriate; and (5) increase habitat diversity by rebuilding, maintaining, and adding instream structures (e.g., large woody debris or rocks) where long-term channel form and function efforts are not feasible.

Hydroelectric Operations: Upper Columbia River spring Chinook salmon and steelhead migrate through four federally owned projects and three to five projects owned by PUDs. These projects are licensed by the Federal Energy Regulatory Commission. The Plan acknowledges that hydropower strategies and actions are being implemented, reviewed, and considered in several ongoing processes, including Federal Columbia River Power System (FCRPS) ESA section 7 consultations (for the lower four Federal dams on the Columbia River), the AFAHCPs, and relicensing agreements. The Plan's recommended actions are intended to be consistent with these processes. The Plan emphasizes continued implementation of the actions identified in the AFAHCPs, which adopted a standard of no net impact (NNI) on the Upper Columbia River Spring-Run Chinook Salmon ESU and Steelhead DPS.

Harvest: Harvest objectives for treaty and non-treaty salmon and steelhead fisheries in the Columbia River Basin are set by the applicable state, tribal, and Federal agencies. Fishery objectives from McNary Dam to the mouth of the Columbia River (fishing zones 1-6) are established by state, tribal, and Federal parties in U.S. v. Oregon, 302 F. Supp. 899 (D. Or. 1969). While recognizing the role of the treaty and non-treaty co-managers, the Plan proposes that the U.S. v. Oregon parties incorporate Upper Columbia recovery goals when formulating fishery plans affecting Upper Columbia River spring Chinook salmon and steelhead. The Plan also recommends that appropriate co-managers and fishery management agencies work together with local stakeholders to develop tributary fisheries management goals and plans.

Hatcheries: The hatchery strategies and actions in the Plan are being reviewed and considered in several ongoing processes, including the Chelan County and Douglas County PUD AFAHCPs, the Grant County biological opinion, and U.S. v. Oregon. NMFS expects that the Plan's recommended goals and actions will be implemented through these ongoing processes. The Plan emphasizes that hatchery programs play an essential role in spring Chinook salmon and steelhead recovery. Among other measures, the Plan proposes that hatchery programs employ mechanisms to manage hatchery returns on spawning grounds in balance with naturally produced fish, while maintaining production levels identified in various agreements. It also proposes that, as the populations recover, hatchery programs should be modified to minimize adverse impacts of hatchery fish on naturally produced fish.

Integration: The Plan states that recovery will depend on integrating actions that address habitat, harvest, and hydroelectric operations; moreover, it emphasizes that recovery actions must be implemented at both the ESU/DPS and population scale.

Adaptive Management: Adaptive management is the process of adjusting management actions and/or directions based on new information. It requires building an evaluation method into an implementation plan, so that selection and design of future recovery actions can be adjusted depending on the results of previous actions. Adaptive management is essential to salmon recovery planning. The UCSRB is developing a monitoring and evaluation element (and associated costs) to incorporate into its adaptive management framework, which will become a part of the overall implementation plan. NMFS will continue to work with the UCSRB on its adaptive management program as appropriate during plan implementation.

Time and Cost Estimates

ESA section 4(f)(1) requires that a recovery plan include ''estimates of the time required and the cost to carry out those measures needed to achieve the Plan's goal and to achieve intermediate steps toward that goal'' (16 U.S.C. 1533[f][1]). The Plan contains an extensive list of actions that need to be undertaken to recover spring Chinook salmon and steelhead; however, there are many uncertainties involved in predicting the course of recovery and in estimating total costs. Such uncertainties include biological and ecosystem responses to recovery actions as well as long-term and future funding. The Plan states that if its recommended actions are implemented, recovery of the Upper Columbia River Spring-Run Chinook Salmon ESU and the Upper Columbia River Steelhead DPS is likely to occur within 10 to 30 years. The cost estimates cover work projected to occur within the first 10-year period. NMFS supports the Plan's determination to focus on the first 10 years of implementation, provided that, before the end of this first implementation period, specific actions and costs will be estimated for subsequent years, to achieve long-term goals and to proceed until a determination is made that listing is no longer necessary.

The estimated cost of restoring habitat for spring Chinook salmon and steelhead in the Upper Columbia Basin is approximately $296 million over the initial 10-year period. This estimate includes expenditures by local, tribal, state, and Federal governments, private business, and individuals in implementing both capital projects and non-capital work. The estimate of $296 million does not include costs associated with hatchery programs, because the implementation of hatchery actions is approved and budgeted in processes established by the Upper Columbia HCPs. These processes are consistent with this recovery plan. The cost estimate also does not include expenses associated with implementing actions within the lower Columbia River, estuary, or FCRPS, or the cost of implementing measures in the PUDs' HCPs and Settlement Agreements. Cost estimates for the estuary and FCRPS are included in two modules that NMFS developed because of the basin-wide scope and applicability of the actions to all 13 ESUs and DPSs listed as threatened or endangered in the Columbia Basin. These modules, as well as the HCPs and Settlement Agreements, are incorporated into the Plan by reference. The modules are available on the NMFS Web site: www.nwr.noaa.gov/Salmon-Recovery-Planning/ESA-Recovery-Plans/Other- Documents.cfm.

The hydropower cost estimates will be updated over time, as the section 7 consultation on the remanded 2004 FCRPS BiOp is completed. The estuary recovery costs could be further refined following public comment on the module and on the ESA recovery plan for the three listed lower Columbia River ESUs and one listed lower Columbia River steelhead DPS in 2007 or early 2008. There are virtually no estimated costs for recovery actions associated with harvest to report at this time. This is because no actions are currently proposed that go beyond those already being implemented through U.S. v. Oregon and other harvest management forums. In the event that additional harvest actions are implemented through these forums, those costs will be added during the implementation phase of this recovery plan. All cost estimates will be refined and updated over time.

The Plan estimates it may cost a total of $10 million ($1 million per year) to cover state, tribal, and local agency and organization staffing costs during the first 10 years of plan implementation, and it is conceivable that this level of effort will need to continue for the Plan's duration. Also, continued actions in the management of habitat, hatcheries, and harvest, including both capital and non-capital costs, will likely warrant additional expenditures beyond the first 10 years. Although it is not practicable to accurately estimate the total cost of recovery, it appears that most of the costs will occur in the first 10 years. Annual costs are expected to be lower for the remaining years, so that the total for the entire period (years 11-30) may possibly range from $150 million to $200 million.

Periodic Reviews

In accordance with its responsibilities under ESA section 4(c)(2), NMFS will conduct status reviews of the listed Upper Columbia River Spring-Run Chinook Salmon ESU and Upper Columbia River Steelhead DPS at least once every 5 years to evaluate their status and determine whether the ESU or DPS should be removed from the list or changed in status. Such evaluations will take into account the following:

• The biological recovery criteria (ICTRT 2007) and listing factor (threats) criteria described in the Plan.

• The management programs in place to address the threats.

• Principles presented in the Viable Salmonid Populations paper (McElhany et al., 2000).

• Best available information on population and ESU/DPS status and new advances in risk evaluation methodologies.

• Other considerations, including: the number and status of extant spawning groups; linkages and connectivity among populations; the diversity of life history and phenotypes expressed; and considerations regarding catastrophic risk.

• Principles laid out in NMFS' Hatchery Listing Policy (70 FR 37204, June 28, 2005).

Conclusion

NMFS has reviewed the Plan, the public comments, and the conclusions of the ICTRT from its reviews of the Plan. Based on that review, NMFS concludes that the Plan meets the requirements in section 4(f) of the ESA for developing a recovery plan.

Literature Cited

Interior Columbia Technical Recovery Team. 2005. Updated population delineation in the Interior Columbia Basin. National Marine Fisheries Service, Northwest Fisheries Science Center. Memorandum. May 11, 2005.

Interior Columbia Technical Recovery Team. 2007. Viability criteria for application to Interior Columbia Basin salmonid ESUs. National Marine Fisheries Service, Northwest Fisheries Science Center. March 2007.

McElhany, P., M. H. Ruckelshaus, M. J. Ford, T. C. Wainwright, and E. P. Bjorkstedt. 2000. Viable salmon populations and the recovery of evolutionarily significant units. U.S. Dept. of Commerce, NOAA Tech. Memo., NMFS NWFSC 42, 156 p.

Authority: 16 U.S.C. 1531 et seq.

Dated: October 2, 2007.
Angela Somma,
Chief, Endangered Species Division, Office of Protected Resources, National Marine Fisheries Service.

[FR Doc. E7-19812 Filed 10-5-07; 8:45 am]

BILLING CODE 3510-22-S